DEPARTMENT OF ENERGY

Federal Energy Regulatory Commission

Combined Notice of Filings #1

May 13, 2009.

Take notice that the Commission received the following electric corporate filings:

Docket Numbers: EC09-79-000.

Applicants: Capital Power Corporation, EPCOR Utilities Inc.

Description: Capital Power Corporation et al. submits application for authorization for Order under Section 203, request for confidential treatment, and request for blanket authorization, waivers.

Filed Date: 05/12/2009.

Accession Number: 20090513-0281.

Comment Date: 5 p.m. Eastern Time on Tuesday, June 2, 2009.

Take notice that the Commission received the following electric rate filings:

Docket Numbers: ER94-1188-045; ER98-1279-016; ER98-4540-014; ER99-1623-014.

Applicants: LG&E Energy Marketing Inc., Louisville Gas & Electric Company, Kentucky Utilities Company, Western Kentucky Energy Corporation.

Description: Supplemental Information of LG&E Energy Marketing Inc., et al.

Filed Date: 05/08/2009.

Accession Number: 20090508-5132.

Comment Date: 5 p.m. Eastern Time on Friday, May 29, 2009.

Docket Numbers: ER08-1113-005.

Applicants: California Independent System Operator Corporation.

Description: California Independent System Operator Corporation submits proposed tariff language to comply with the FERC Order on Compliance issued on 3/6/09.

Filed Date: 05/12/2009.

Accession Number: 20090513-0194.

Comment Date: 5 p.m. Eastern Time on Tuesday, June 2, 2009.

Docket Numbers: ER09-637-001.

Applicants: Carolina Power & Light Company.

Description: Progress Energy Carolinas, Inc. submits Third Revised Sheet 36 et al. to its FERC Electric Tariff, Fourth Revised Volume 3.

Filed Date: 04/29/2009.

Accession Number: 20090430-0321.

Comment Date: 5 p.m. Eastern Time on Wednesday, May 20, 2009.

Docket Numbers: ER09-1117-000.

Applicants: NGP Blue Mountain I LLC.

Description: NGP Blue Mountain I LLC submits an application requesting that the FERC accept for filing Applicant's FERC Electric Tariff, Original Volume 1; to become effective 7/13/09 etc.

Filed Date: 05/12/2009.

Accession Number: 20090513-0193.

Comment Date: 5 p.m. Eastern Time on Tuesday, June 2, 2009.

Docket Numbers: ER09-1121-000.

Applicants: PJM Interconnection LLC.

Description: PJM Interconnection, LLC submits amendments to Schedule 12 of the Amended and Restated Operating Agreement of PJM Interconnection, LLC to update the PJM member list.

Filed Date: 05/12/2009.

Accession Number: 20090513-0160.

Comment Date: 5 p.m. Eastern Time on Tuesday, June 2, 2009.

Docket Numbers: ER09-1122-000.

Applicants: Southern California Edison Company.

Description: Southern California Edison Company submits Small Generator Interconnection Agreement and a Service Agreement for Wholesale Distribution Service.

Filed Date: 05/12/2009.

Accession Number: 20090513-0159.

Comment Date: 5 p.m. Eastern Time on Tuesday, June 2, 2009.

Docket Numbers: ER09-1126-000.

Applicants: Midwest Independent Transmission System Operator, Inc.

Description: Midwest Independent Transmission System Operator, Inc. submits proposed revisions to provisions of their Energy and Operating Reserve Markets Tariff regarding Stored Energy Resources etc., effective 1/1/10.

Filed Date: 05/12/2009.

Accession Number: 20090513-0245.

Comment Date: 5 p.m. Eastern Time on Tuesday, June 2, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E9-11667 Filed 5-19-09; 8:45 am]

BILLING CODE 6717-01-P